DEPARTMENT OF COMMERCE

Foreign-Trade Zones Board

[B-107-2013]

Foreign-Trade Zone 265—Conroe, Texas; Authorization of Production Activity; Bauer Manufacturing Inc. (Pile Drivers, Boring Machinery, and Foundation Construction Equipment); Conroe, Texas

On December 18, 2014, the City of Conroe, Texas, grantee of FTZ 265, submitted a notification of proposed production activity to the Foreign-Trade Zones (FTZ) Board on behalf of Bauer Manufacturing Inc., within FTZ 265—Site 1, in Conroe, Texas.

The notification was processed in accordance with the regulations of the FTZ Board (15 CFR part 400), including notice in the Federal Register inviting public comment (78 FR 79390, 12-30-2013). The FTZ Board has determined that no further review of the activity is warranted at this time. The production activity described in the notification is authorized, subject to the FTZ Act and the FTZ Board's regulations, including Section 400.14.

Dated: April 18, 2014.
Andrew McGilvray,
Executive Secretary.

[FR Doc. 2014-09360 Filed 4-23-14; 8:45 am]

BILLING CODE 3510-DS-P